DEPARTMENT OF HEALTH AND HUMAN SERVICES

National Institutes of Health

Prospective Grant of an Exclusive Option License: Immunotherapy Vaccine for Treating Lymphoma and Leukemia

AGENCY: National Institutes of Health, HHS.

ACTION: Notice.

SUMMARY: This is notice, in accordance with 35 U.S.C. 209 and 37 CFR part 404, that the National Institutes of Health, Department of Health and Human Services, is contemplating the grant to University of Texas MD Anderson Cancer Center, of an exclusive option license to practice the inventions embodied in the following US Patents and US Patent Applications (and all foreign counterparts) for the continued research and development of the inventions: US Patent Application Serial No. 13/890,502, entitled, “Viral Chemokine-antigen Fusion Proteins” [HHS Ref. No. E-194-2000/0-US-06] and in US Patent Serial No. 8,258,278 and US Patent Application Serial No.13/587,515, both entitled “Methods and Compositions for the Treatment and Prevention of Cancer” [HHS Ref. Nos. E-271-2006/0-US-03 and E-271-2006/0-US-04, respectively]. The patent rights in this invention have been assigned to the Government of the United States of America.

The exclusive option license may be term-limited, the prospective territory may be worldwide, and the field of use may be limited to:

Research, development, manufacture, and related non-commercial use in humans for the treatment of B-cell leukemias and B-cell lymphoma of a chemokine-tumor antigen fusion protein in which the chemokine is viral Macrophage Inflammatory Protein 3 Alpha (MIP3α) and the tumor antigen is the epitope of a malignant B-cell immunoglobulin idiotype of an antibody produced by a B-cell lymphoma.

Prior to the expiration or termination of the exclusive option license, University of Texas M.D. Anderson Cancer Center will have the exclusive right to amend the option license to include the right to sublicense for commercialization.

DATES: Only written comments or applications for a license (or both) which are received by the NIH Office of Technology Transfer on or before April 30, 2014 will be considered.

ADDRESSES: Requests for copies of the patent applications, inquiries, comments, and other materials relating to the contemplated exclusive option license should be directed to: Yolanda Mock Hawkins, Ph.D., M.B.A., Licensing and Patenting Manager, Office of Technology Transfer, National Institutes of Health, 6011 Executive Boulevard, Suite 325, Rockville, MD 20852-3804; Telephone: (301) 435-5170; Facsimile: (301) 402-0220; Email: hawkinsy@mail.nih.gov.

SUPPLEMENTARY INFORMATION: This invention concerns a cancer treatment for B-cell lymphoma comprising a vaccine that increases the ability of a B-cell lymphoma antigen to provoke an immune response in the body. In particular, the vaccine comprises a viral chemokine fused to a tumor antigen and is administered as either a protein or a nucleic acid.

The prospective exclusive option license, and any potential sublicense, will comply with the terms and conditions of 35 U.S.C. 209 and 37 CFR part 404. The prospective exclusive option license, may be granted unless the NIH receives within fifteen (15) days from the date of this published notice written evidence and argument that establishes that the grant of the license would not be consistent with the requirements of 35 U.S.C. 209 and 37 CFR part 404.

Complete applications for a license in the field of use filed in response to this notice will be treated as objections to the grant of the contemplated exclusive option license. Comments and objections submitted to this notice will not be made available for public inspection and, to the extent permitted by law, will not be released under the Freedom of Information Act, 5 U.S.C. 552.

Dated: April 9, 2014.
Richard U. Rodriguez,
Director, Division of Technology Development & Transfer, Office of Technology Transfer, National Institutes of Health.

[FR Doc. 2014-08387 Filed 4-14-14; 8:45 am]

BILLING CODE 4140-01-P